FEDERAL COMMUNICATIONS COMMISSION

47 CFR Parts 2 and 80

[WT Docket No. 04-344; PR Docket No. 92-257; FCC 06-108]

Maritime Communications

AGENCY: Federal Communications Commission.

ACTION: Final rule.

SUMMARY: In this document, the Commission denies a petition for reconsideration of the Automatic Identification Systems (AIS) equipment certification requirements for ship station equipment that were adopted in the Sixth Report and Order in PR Docket No. 92-257. The Commission concludes that there is no compelling justification for adopting domestic AIS equipment certification standards that diverge from the international standards. In support of this conclusion, the Commission notes that any such departure from the international standards would delay AIS deployment in the United States, discourage voluntary AIS carriage, and create other problems, including difficulties in AIS coordination with maritime authorities of other nations.

DATES: Effective October 12, 2006.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's Fourth Memorandum Opinion and Order, FCC 06-108, adopted on July 20, 2006, and released on July 24, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at http://www.fcc.gov. Alternative formats are available to persons with disabilities by sending an e-mail to fcc504@fcc.gov or by calling the Consumer & Governmental Affairs Bureau at 202-418-0530 (voice), 202-418-0432 (tty).

1. In the Sixth Report and Order in PR Docket No. 92-257, the Commission adopted rules providing for the certification of AIS equipment that complies with the international standards for such equipment. In a petition for reconsideration of that decision, MariTEL, Inc. (MariTEL) contended that the adopted AIS equipment certification requirements will have a devastating impact on MariTEL because the international AIS emission mask is not as rigorous as the otherwise applicable U.S. emission mask, and, more importantly, the procedures for measuring compliance with the international mask are flawed so that equipment approved as compliant may not in fact comply even with the more lenient emission mask. MariTEL further argued that, in adopting AIS equipment certification requirements that incorporate by reference the international standards for such equipment, the Commission effectively ceded its authority over domestic spectrum use to international authorities, abrogating its obligation to exercise independent judgment to determine whether a particular regulation would serve the domestic public interest.

2. The Commission agrees with MariTEL that the Commission should not incorporate international standards in its own rules automatically, without considering whether, on balance, those international standards would serve the domestic public interest. The Commission believes, however, based on the record, that it serves the public interest for the Commission to establish AIS equipment certification standards that conform to the international standards. The adoption of U.S.-specific standards for AIS equipment could preclude the development of a seamless global AIS network and complicate international AIS coordination. This would reduce the effectiveness of AIS as a tool against terrorism. It would also reduce the value of AIS for maritime safety, especially if U.S.-certified equipment were not interoperable with AIS equipment approved under the international standards. It could also lead to the premature obsolescence of installed AIS devices meeting the international standards, and result in stranded inventory for AIS equipment manufacturers who have relied on the international standards in designing AIS devices. In addition, adoption of a separate standard could increase the costs to U.S. vessels of complying with the domestic AIS carriage requirement (and potentially also increase AIS costs for foreign-flagged vessels transiting U.S. waters) by making U.S.-approved AIS equipment more expensive and/or necessitating carriage of two different AIS devices. Adding to the cost of AIS equipment would also create a disincentive to voluntary AIS carriage, further undermining the effectiveness of AIS. Furthermore, the current record in this proceeding does not provide a basis for immediate adoption of an alternative AIS equipment standard. Therefore, if the Commission were to grant MariTEL's petition for reconsideration, it would appear that the Commission would also have to request further comment to determine precisely what standard should be adopted in part 80 in lieu of incorporating the international standards by reference. This would engender considerable uncertainty in both the maritime and the manufacturing communities, internationally as well as domestically, for a significant period of additional time. All of these factors would serve to delay and limit effective, efficient and expeditious AIS implementation in the United States, which would clearly be contrary to the public interest. On the other hand, continued reliance on the international standards in certifying AIS equipment under part 80 would permit domestic AIS deployment to proceed unabated, provide certainty to the affected entities, encourage voluntary AIS carriage, minimize the costs of AIS implementation (for the United States Government as well as private sector entities), and permit the development of a seamless global AIS network in which the vessel monitoring capabilities of AIS are maximized.

3. MariTEL did not directly dispute these benefits. Rather, MariTEL contended that the Commission must weigh against those public interest benefits the interference to VHF Public Coast station operations that will be caused by the introduction of AIS technology as contemplated by the international standards, and the adverse impact of such interference on MariTEL's ability to develop a viable maritime communications service. However, the Commission continues to believe that MariTEL overstates the interference impact of AIS equipment authorized on the basis of international standards, and that the challenges that may be presented by such potential interference can be surmounted using existing technology. In particular, the Commission continues to disagree with MariTEL's contention that the AIS emission mask is not as stringent as the emission mask typically applicable to maritime transmitters under part 80 of the Commission's rules. The Commission concludes that the public interest benefits of conforming its part 80 rules governing the certification of AIS equipment with those used in other nations and internationally clearly outweigh the costs, and that adoption of an alternative AIS certification standard would be in derogation of the paramount public interest in maximizing homeland security and maritime safety. The Commission therefore denies MariTEL's petition for reconsideration.

I. Procedural Matters

A. Paperwork Reduction Act Analysis

1. The action contained herein has been analyzed with respect to the Paperwork Reduction Act of 1995 (PRA) and found to impose no new or modified reporting or recordkeeping requirements or burdens to the public, including businesses with fewer than 25 employees.

B. Report to Congress

2. The Commission will send a copy of this Fourth Memorandum Opinion and Order in a report to be sent to Congress and the General Accounting Office pursuant to the Congressional Review Act, see 5 U.S.C. 801(a)(1)(A).

Federal Communications Commission.
Marlene H. Dortch,
Secretary.

[FR Doc. E6-16844 Filed 10-11-06; 8:45 am]

BILLING CODE 6712-01-P